DEPARTMENT OF COMMERCE

International Trade Administration

[C-570-955]

Certain Magnesia Carbon Bricks From the People's Republic of China: Rescission of Countervailing Duty Administrative Review; 2011

AGENCY: Import Administration, International Trade Administration, Department of Commerce.

DATES: Effective Date: February 4, 2013.

FOR FURTHER INFORMATION CONTACT: Hilary Sadler or Dana Mermelstein, Import Administration, International Trade Administration, U.S. Department of Commerce, 14th Street and Constitution Avenue NW., Washington, DC 20230; telephone: (202) 482-4340 or (202) 482-1391, respectively.

Background

On September 4, 2012, the Department of Commerce (the Department) published a notice of opportunity to request an administrative review of the countervailing duty (CVD) order on certain magnesia carbon bricks (MCBs) from the People's Republic of China (PRC) covering the period January 1, 2011, through December 31, 2011.¹ The Department received a timely request for review of Yingkou Bayuquan Refractories Co., Ltd. (BRC) from Vesuvius USA Corporation (Vesuvius), a U.S. importer of MCBs from the PRC.² Fengchi Imp. & Exp. Co., Ltd. of Haicheng City and Fengchi Refractories Co., of Haicheng City (together, Fengchi) also timely requested a review of itself.³ On October 31, 2012, the Department published a notice of initiation of an administrative review of the CVD order on MCBs from the PRC with respect to Fengchi and BRC.⁴ On December 21, 2012, Fengchi timely withdrew its request for review of itself.⁵ On January 7, 2013, Vesuvius timely withdrew its request for review of BRC.⁶

¹ See Antidumping or Countervailing Duty Order, Finding, or Suspended Investigation; Opportunity To Request Administrative Review, 77 FR 53863, 53864 (September 4, 2012).

² See Letter to the Department from Fengchi “Magnesia Carbon Bricks from China, Case No. C-570-955: Request for Countervailing Duty Administrative Review,” dated October 1, 2012.

³ See Letter to the Department from Fengchi “Magnesia Carbon Bricks from China, Case No. C-570-955: Request for Countervailing Duty Administrative Review,” dated October 1, 2012.

⁴ See Initiation of Antidumping and Countervailing Duty Administrative Reviews and Requests for Revocation in Part, 77 FR 65858 (October 31, 2012).

⁵ See Letter to the Department from Fengchi “Magnesia Carbon Bricks from China, Case No. C-570-955: Withdrawal of Request for Countervailing Duty Administrative Review” dated December 21, 2012.

⁶ See Letter to the Department from Vesuvius “Magnesia Carbon Bricks from China, Case No. C-570-955: Withdrawal of Request for Countervailing Duty Administrative Review” dated January 7, 2013.

Rescission

Pursuant to 19 CFR 351.213(d)(1), the Department will rescind an administrative review, in whole or in part, if a party that requested the review withdraws the request within 90 days of the date of publication of the notice of initiation of the requested review. Both parties timely submitted withdrawal requests within the 90-day period (i.e., before January 29, 2013). Because we received no other requests for review of Fengchi and BRC and no other requests for review of the CVD order on MCBs from the PRC with respect to other companies subject to the order, we are rescinding this administrative review of the CVD order on MCBs from the PRC in full, consistent with 19 CFR 351.213(d)(1).

Assessment

The Department will instruct U.S. Customs and Border Protection (CBP) to assess countervailing duties on all appropriate entries. Fengchi and BRC shall be assessed countervailing duties at rates equal to the cash deposit of estimated countervailing duties required at the time of entry, or withdrawal from warehouse, for consumption, during the period January 1, 2011, through December 31, 2011, in accordance with 19 CFR 351.212(c)(1)(i). The Department intends to issue appropriate assessment instructions to CBP 15 days after publication of this notice.

Notification Regarding Administrative Protective Orders

This notice also serves as a final reminder to parties subject to the administrative protective order (APO) of their responsibility concerning the disposition of proprietary information disclosed under an APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: January 25, 2013.
Christian Marsh,
Deputy Assistant Secretary for Antidumping and Countervailing Duty Operations.

[FR Doc. 2013-02213 Filed 2-1-13; 8:45 am]

BILLING CODE 3510-DS-P